DEPARTMENT OF AGRICULTURE

Forest Service

Northwest Sacramento Provincial Advisory Committee (PAC)

AGENCY: Forest Service, USDA.

ACTION: Notice of meeting.

SUMMARY: The Northwest Sacramento Provincial Advisory Committee (PAC) will meet on Wednesday, March 15, 2000, at the Sacramento River Discovery Center, Sale Lane, and the Training Center, Red Bluff Community Center, 1015 Kimball Road, Red Bluff, California. The meeting will start with a field trip to view the Sacramento River Discovery Center from 8:30 a.m. to 10:00 a.m. The meeting will reconvene at the Training Center, Red Bluff Community Center, at 10:30 a.m. and adjourn at 4:30 p.m. Topics for the meeting are: (1) Discussion on the Draft Fire Management Plan for the Shasta-Trinity National Forest; (2) research and monitoring of the Northwest Forest Plan; (3) updates on the Little Stony Creek Watershed Fuels and Clear Creek/Resource Conservation District proposal; and (4) public comment periods. All PAC meetings are open to the public. Interested citizens are encouraged to attend.

FOR FURTHER INFORMATION CONTACT: Connie Hendryx, USDA, Klamah National Forest, 11263 N. Highway 3, Fort Jones, California 96032; telephone 530-468-1281; TDD (530) 468-2783; email:chendryx@fs.fed.us.

Dated: March 8, 2000.
Constance J. Henderyx,
PAC Support Staff.

[FR Doc. 00-6495 Filed 3-15-00; 8:45 am]

BILLING CODE 3410-11-M